DEPARTMENT OF THE INTERIOR

Fish and Wildlife Service

[Docket No. FWS-HQ-IA-2019-0052; FXIA16710900000-190-FF09A30000]

Endangered Species; Issuance of Permits

AGENCY: Fish and Wildlife Service, Interior.

ACTION: Notice of issuance of permits.

SUMMARY: We, the U.S. Fish and Wildlife Service, have issued the following permits to conduct certain activities with endangered species. We issue these permits under the Endangered Species Act.

ADDRESSES: Information about the applications for the issued permits listed in this notice is available online at www.regulations.gov. See SUPPLEMENTARY INFORMATION for details.

FOR FURTHER INFORMATION CONTACT: Brenda Tapia, by phone at 703-358-2104, via email at DMAFR@fws.gov, or via the Federal Relay Service at 800-877-8339.

SUPPLEMENTARY INFORMATION: We, the U.S. Fish and Wildlife Service (Service), have issued permits to conduct certain activities with endangered and threatened species in response to permit applications that we received under the authority of section 10(a)(1)(A) of the Endangered Species Act of 1973, as amended (ESA; 16 U.S.C. 1531 et seq.)

After considering the information submitted with each permit application and the public comments received, we issued the requested permits subject to certain conditions set forth in each permit. For each application for an endangered species, we found that (1) the application was filed in good faith, (2) the granted permit would not operate to the disadvantage of the endangered species, and (3) the granted permit would be consistent with the purposes and policy set forth in section 2 of the ESA.

Availability of Documents

The permittees' original permit application materials, along with public comments we received during public comment periods for the applications, are available for review. To locate the application materials and received comments, go to www.regulations.gov and search for the appropriate permit number (e.g., 12345C) provided in the following table.

Permit No. | Applicant | Permit issuance date
80989C | U.S. Geological Survey | March 13, 2019.
85964C | U.S. Fish and Wildlife Service | March 13, 2019.
84889C | Chicago Zoological Society | March 13, 2019.
98983C | Zoological Society of San Diego | March 13, 2019.
98985C | Zoological Society of San Diego | March 13, 2019.
99617C | Wildlife Conservation Society | March 13, 2019.
00760D | Eastern Connecticut State University | March 13, 2019.
50259C | Univ. of California, Davis | March 13, 2019.
79703C | Safari Game Search Foundation | March 21, 2019.
08526D | Greensboro Science Center | March 21, 2019.
08907D | Daniel W. Pearson | March 21, 2019.
99164C | Uno Mas Ranch LLC | March 25, 2019.
02149D | Uno Mas Ranch LLC | March 25, 2019.
84932C | Great Plains Zoo | March 25, 2019.
99011C | Forrest M. Simpson | March 25, 2019.
86122C | Arthur E. Bogan, NC Museum of Natural Sciences | March 25, 2019.
97801C | Wild Cat Education & Conservation Fund | March 25, 2019.
98330C | Wildlife Partners LLC | March 25, 2019.
93748A | Surprise Spring Foundation | March 25, 2019.
91440C | Minnesota Zoological Gardens | March 25, 2019.
95637C | L.A. Waters Ranch, LLC | March 25, 2019.
91449C | Panthera Corporation | March 26, 2019.
99652C | L. Michael Romero, Tufts University | March 28, 2019.
10997B | Lauren Ogburn | March 28, 2019.
84335C | Nancy Speed | March 28, 2019.
93568C | Zoological Society of San Diego | March 28, 2019.
75693A | Turtle Back Zoo | March 28, 2019.
62698C | Saint Louis Zoo | March 6, 2019.
007870 | Smithsonian National Zoological Park | March 12, 2019.
08540D | Center for the Conservation of Tropical Ungulates, LLC | April 1, 2019.
05678D | San Antonio Zoological Gardens & Aquarium | April 3, 2019.
42604C | Saint Louis Zoo | April 12, 2019.
78380C | Omaha's Henry Doorly Zoo & Aquarium | May 8, 2019.
11986D | Los Angeles Zoo | May 14, 2019.
17573D | Denver Zoo | May 14, 2019.
21469B | University of Illinois | May 14, 2019.
85317C | Wildlife Conservation Society | May 14, 2019.
93295C | Field Museum of Natural History | May 14, 2019.
98899C | Nicole Angeli, Smithsonian Institution | May 14, 2019.

Authorities

We issue this notice under the authority of the Endangered Species Act, as amended (16 U.S.C. 1531 et seq.), and the Marine Mammal Protection Act, as amended (16 U.S.C. 1361 et seq.), and their implementing regulations.

Brenda Tapia,
Program Analyst/Data Administrator, Branch of Permits, Division of Management Authority.

[FR Doc. 2019-13791 Filed 6-27-19; 8:45 am]

BILLING CODE 4333-15-P